DEPARTMENT OF HEALTH AND HUMAN SERVICES

National Institutes of Health

Prospective Grant of Exclusive License: Hydroxylamine Compositions for the Prevention or Retardation of Cataracts

AGENCY: National Institutes of Health, Public Health Service, DHHS.

ACTION: Notice.

SUMMARY: This notice, in accordance with 35 U.S.C. 209(c))1) and 37 CFR 404.7(a)(1)(i), that the National Institutes of Health (NIH), Department of Health and Human Services, in contemplating the grant of an exclusive license worldwide to practice the invention embodied in: U.S. Patent Number 6,001,853 issued December 14, 1999 entitled, “Hydroxylamine Compositions for the Prevention or Retardation of Cataracts”, to SL Pharmaceuticals, having a place of business in Kennett Square, PA 19348. The contemplated exclusive license may be limited to use for human therapeutics and diagnostics. The United States of America is the assignee of the patent rights in this invention.

DATES: Only written comments and/or application for a license which is received by the NIH Office of Technology Transfer on or before February 26, 2001, will be considered.

ADDRESSES: Request for a copy of the patent, inquiries, comments and other materials relating to the contemplated license should be directed to: Marlene Shinn, Technology Licensing Specialist, Office of Technology Transfer, National Institutes of Health, 6011 Executive Boulevard, Suite 325, Rockville, MD 20852-3804; Telephone: 301-496-7056 ext. 285; Facsimile: 301-402-0220; E-mail: ms482m@nih.gov.

SUPPLEMENTARY INFORMATION: Cataracts are believed to be a disease of multifactorial origin involving many of the same processes that characterize the process of aging in other issues. This invention relates generally to a pharmaceutical composition and treatment to inhibit the development of cataracts in the crystalline lens of the eye by administering a hydroxylamine to a patient at risk of developing a cataract. This technology is an improvement over what is presently known, in that it allows for a clinically useful non-surgical treatment that retards the development of age-related cataracts.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: December 15, 2000.
Jack Spiegel,
Director, Division of Technology Development and Transfer, Office of Technology Transfer.

[FR Doc. 00-32816 Filed 12-22-00; 8:45 am]

BILLING CODE 4140-01-M